DEPARTMENT OF DEFENSE

Department of the Army, Corps of Engineers

Intent To Prepare a Supplemental Environmental Impact Statement for the San Clemente Shoreline Protection Project

AGENCY: Corps of Engineers, Department of the Army, DoD.

ACTION: Notice of intent.

SUMMARY: The U.S. Army Corps of Engineers (USACE) intends to prepare a Supplemental Environmental Impact Statement (SEIS) to evaluate further dredging of suitable beach nourishment sediment associated with the construction of the San Clemente Shoreline Protection Project, a coastal storm risk management project, and include an additional borrow area(s) to obtain beach compatible sediment for future renourishments. This SEIS will supplement the San Clemente Shoreline Protection Project Final Feasibility Report and Joint Final Environmental Impact Statement/Environmental Impact Report dated February 2012 (FR/EIS/EIR), San Clemente Shoreline Protection Project Supplemental Environmental Assessments (SEA) prepared in 2023, and San Clemente Shoreline Protection Project Revised SEA prepared in 2024. The SEIS will not reformulate the broad array of alternatives previously examined in the FR/EIS/EIR and SEAs but will consider reasonable alternatives received during the scoping process. Mitigation will be considered as required for any additional impacts addressed in the SEIS.

DATES: To ensure consideration, all comments concerning the scope of the SEIS must be received on or before August 1, 2024.

ADDRESSES: You may submit comments related to the SEIS by any of the following methods: Mail: U.S. Army Corps of Engineers, Los Angeles District, 915 Wilshire Boulevard (Attn: CESPL-PDR-L San Clemente), Los Angeles, California 90017 or Email: kenneth.wong@usace.army.mil.

FOR FURTHER INFORMATION CONTACT: Kenneth Wong, Planning Division, USACE Los Angeles District, (213) 361-2269, kenneth.wong@usace.army.mil.

SUPPLEMENTARY INFORMATION:

1. Background: The project was authorized by the Water Resources Reform and Development Act of 2014, Public Law 113-121, section 7002 for the purpose of reducing coastal storm damages by constructing a beach fill/berm along the San Clemente shoreline. The authorized project includes construction of an approximate 50-foot-wide beach nourishment project along a 3,412-foot-long stretch of shoreline using beach compatible sediment, with renourishment on the average of every 6 years over a 50-year period of federal participation. The authorization did not identify a specific borrow site for the beach fill; however, it identified that the site(s) would be off the coast of San Diego County (e.g., Oceanside). The project is further described in the Final Feasibility Report and Final Environmental Impact Statement dated February 2012 (FR/EIS/EIR); supplemental environmental assessment (SEA) dated May 2023; and SEA dated March 2024. Construction of the project was initiated in December 2023. However, due in part to equipment damage and sediment compatibility issues encountered at the Oceanside borrow area, construction was temporarily paused. To allow for operational flexibility, the 2024 SEA evaluated inclusion of the Surfside-Sunset borrow area, a 106-acre borrow site offshore Surfside-Sunset beaches located 29 miles to the north of San Clemente in Orange County, as an alternate borrow site for initial construction of the project.

After the 2024 SEA's FONSI was signed (March 18, 2024), further analysis indicated that continued use of the Surfside-Sunset borrow site to complete initial construction of the project could result in significant effects on air quality due to the duration of dredging operations, including time and distance required to transport sediment from Surfside-Sunset to San Clemente Beach. Therefore, a SEIS is needed to evaluate potential significant impacts to air quality associated with further use of Surfside-Sunset to complete initial construction. Furthermore, the 2024 SEA only evaluated use of Surfside-Sunset to complete initial construction but not further use of the borrow area for future renourishments. The SEIS will also evaluate use of Surfside-Sunset for future renourishments.

2. Purpose and Need for the Proposed Action: The purpose of the proposed action is to identify borrow sites with sufficient beach compatible sediment required to complete all the planned beach nourishments for the authorized coastal storm risk management project. The need for the project is to protect public properties and private structures currently susceptible to damages caused by erosion (including land loss and undermining of structures), inundation (structures), and wave attack (structures, railroad).

3. Proposed Action: The proposed action is to identify suitable location(s) containing enough beach compatible sediment required to nourish San Clemente Beach and complete the coastal storm risk management project.

4. Alternatives: The alternatives currently identified include the preferred alternative and the no-action alternative. The preferred alternative includes the use of Surfside-Sunset borrow area in addition to the Oceanside borrow area to nourish San Clemente Beach on the average of every 6 years over the 50-year period of federal participation. The No Action Alternative is defined as continued use of only the Oceanside borrow area to complete the coastal storm risk management project; the Surfside-Sunset borrow area would not be used further. During scoping and development of the SEIS, USACE will determine if there are any additional borrow areas with suitable sediment in the general vicinity of the San Clemente Beach placement site in addition to Oceanside and Surfside-Sunset borrow areas that should be evaluated in the SEIS.

5. Summary of Potential Impacts.

Air Quality: Continued use of the Surfside-Sunset borrow area would result in emissions within the South Coast Air Basin where the borrow area, vessel transit corridor, and placement sites are located. The South Coast Air Basin is in extreme nonattainment for ozone. Pursuant to 40 CFR 93.153(b)(1), the applicability rates for ozone precursors volatile organic carbon (VOC) and nitrogen oxides (NOX) are each 10 tons per year. The total of direct and indirect emissions of NOX for the continued use of the borrow area to complete construction and for future renourishments would exceed the applicability rate for NOX.

Biological Resources: The Surfside-Sunset borrow area as well as the vessel transit corridor for the hopper dredge to the San Clemente Beach placement site is located within a larger area identified by the National Marine Fisheries Service (NMFS) as essential for transit of green sea turtles (Chelonia mydas), a species protected under the Endangered Species Act. Potential effects include entrainment and vessel collision. The borrow area and vessel transit corridor are also located within a proposed critical habitat for the species which is expected to be finalized in the summer of 2024. Significant adverse effects to the forthcoming designated critical habitat are not expected.

6. Scoping Process.

a. Scoping will afford all interested parties an opportunity to provide comment on the proposed scope of analysis in the draft document. A scoping meeting will not be held. Comments on scoping, including potential alternatives, pertinent information, studies, and/or analyses, relevant to the proposed action may be submitted to the contacts listed above. If any reasonable alternatives are identified during the scoping period, USACE will evaluate those alternatives in the draft SEIS, along with the No Action Alternative.

b. This NOI commences the public scoping process to identify issues and potential alternatives for consideration in the SEIS. Throughout the scoping process, federal agencies; tribal, state, and local governments; and the public can help USACE identify significant resources and issues, impact-producing factors, reasonable alternatives, and potential mitigation measures to be analyzed in the SEIS, as well as to provide additional information. Comments received in response to this NOI, including names and addresses of those who comment, will be part of the public record. Comments submitted anonymously will be accepted and considered. Before including your address, phone number, email address, or other personal identifying information in your comment, be advised that your entire comment—including your personal identifying information—may be made publicly available at any time. While commenters can request their personal identifying information be withheld from public review, it cannot be guaranteed that this will be able to be accomplished.

7. Anticipated Permits and Other Authorizations. The USACE is anticipating that the proposed action would require a permit pursuant to section 401 of the Clean Water Act and application of section 404(b)(1) guidelines. Other environmental review and consultation requirements include, but are not limited to, the National Historic Preservation Act, Clean Air Act, Endangered Species Act, Fish and Wildlife Coordination Act, Coastal Zone Management Act, Magnuson-Steven Fisheries Conservation Management Act, Marine Protection Research and Sanctuaries Act, and the Marine Mammal Protection Act.

8. Schedule for the Decision-Making Process. After the draft SEIS is completed, the USACE will publish a notice of availability (NOA) and request public comments on the draft SEIS. USACE anticipates issuing the NOA in July 2024. After the public comment period ends, the USACE will review and respond to comments received and will develop the final SEIS. USACE anticipates making the final SEIS available to the public in September or October 2024. A ROD will be completed no sooner than 30 days after the final SEIS is released, in accordance with 40 CFR 1506.11(b)(2).

David R. Hibner,
Programs Director.

[FR Doc. 2024-14552 Filed 7-1-24; 8:45 am]

BILLING CODE 3720-58-P